DEPARTMENT OF TRANSPORTATION

Federal Aviation Administration

14 CFR Part 71

[Docket No. FAA-2024-0319; Airspace Docket No. 24-ASO-6]

RIN 2120-AA66

Amendment of Class E Airspace; Reidsville, NC

AGENCY: Federal Aviation Administration (FAA), DOT.

ACTION: Final rule; withdrawal.

SUMMARY: A final rule was published in the Federal Register on June 4, 2024, establishing Class E airspace extending upward from 700 feet above the surface for Rockingham County NC Shiloh Airport, Reidsville, NC, to accommodate new area navigation (RNAV) global positioning system (GPS) standard instrument approach procedures serving the airport. The FAA has determined that withdrawal of the final rule is warranted since this action should be considered an amendment.

DATES: Effective 0901 UTC, August 2, 2024.

FOR FURTHER INFORMATION CONTACT: John Fornito, Operations Support Group, Eastern Service Center, Federal Aviation Administration, 1701 Columbia Ave., College Park, GA 30337; Telephone (404) 305-6364.

SUPPLEMENTARY INFORMATION:

History

The FAA published a final rule in the Federal Register (89 FR 47847, June 4, 2024) for Doc. No. FAA-2024-0319, establishing Class E airspace extending upward from 700 feet above the surface within a 9.1-mile radius of Rockingham County, NC Shiloh Airport, Reidsville, NC. After publication, the FAA found that Class E airspace had already been charted for this airport. As a result, the final rule is being withdrawn, and a new final rule, amending the existing Class E airspace, will be submitted.

Lists of Subjects in 14 CFR Part 71

Airspace, Incorporation by reference, Navigation (air).

The Withdrawal

In consideration of the foregoing, the final rule for Docket No. FAA-2024-0319 (89 FR 47847, June 4, 2024), FR Doc. 2024-12112, is hereby withdrawn.

Authority: 49 U.S.C. 106(f), 106(g); 40103, 40113, 40120; E.O. 10854, 24 FR 9565, 3 CFR, 1959-1963 Comp., p. 389.

Issued in College Park, Georgia, on July 29, 2024.
Andreese C. Davis,
Manager, Airspace & Procedures Team South, Eastern Service Center, Air Traffic Organization.

[FR Doc. 2024-17008 Filed 8-1-24; 8:45 am]

BILLING CODE 4910-13-P